DEPARTMENT OF LABOR

Employment and Training Administration

[TA-W-73,284]

Lockheed Martin: Cleveland, OH; Notice of Termination of Investigation

Pursuant to Section 223 of the Trade Act of 1974, as amended, an investigation was initiated in response to a petition filed on January 14, 2010 by a company official on behalf of workers of Lockheed Martin, Cleveland, Ohio.

The petitioner(s) has (have) requested that the petition be withdrawn. Consequently, the investigation has been terminated.

Signed at Washington, DC this 9th day of March, 2010.
Del Min Amy Chen,
Certifying Officer, Division of Trade Adjustment Assistance.

[FR Doc. 2010-6915 Filed 3-29-10; 8:45 am]

BILLING CODE 4510-FN-P